NATIONAL AERONAUTICS AND SPACE ADMINISTRATION

[17-043]

NASA Advisory Council; Aeronautics Committee; Meeting.

AGENCY: National Aeronautics and Space Administration.

ACTION: Notice of meeting.

SUMMARY: In accordance with the Federal Advisory Committee Act, as amended, the National Aeronautics and Space Administration (NASA) announces a meeting of the Aeronautics Committee of the NASA Advisory Council (NAC). The meeting will be held for the purpose of soliciting, from the aeronautics community and other persons, research and technical information relevant to program planning. This Committee reports to the NAC.

DATES: Tuesday, July 25, 2017, 10:30 a.m.-5:30 p.m., Local Time.

ADDRESSES: National Institute of Aerospace, Room 141, 100 Exploration Way, Hampton, VA 23666.

FOR FURTHER INFORMATION CONTACT: Ms. Irma Rodriguez, Executive Secretary, NAC Aeronautics Committee, NASA Headquarters, Washington, DC 20546, (202) 358-0984, or irma.c.rodriguez@nasa.gov.

SUPPLEMENTARY INFORMATION: The meeting will be open to the public up to the seating capacity of the room. This meeting is also available telephonically and by WebEx. You must use a touch-tone phone to participate in this meeting. Any interested person may dial the toll free access number 1-844-467-6272, and then the numeric participant passcode: 208191 followed by the # sign. The WebEx link is https://nasa.webex.com/, the meeting number is 996 745 754, and the password is CFKxfq@3 (case sensitive).

Note: If dialing in, please “mute” your telephone.

The agenda for the meeting includes the following topics:

—New Aviation Horizons Planning and Management Status

—Aeronautics Research Mission Directorate FY 2018 Budget

—Airspace Transportation Demonstrator Overview

Attendees will be requested to sign a register. It is imperative that the meeting be held on this date to accommodate the scheduling priorities of the key participants.

Carol J. Hamilton,
Acting Advisory Committee Management Officer, National Aeronautics and Space Administration.

[FR Doc. 2017-14119 Filed 7-5-17; 8:45 am]

BILLING CODE 7510-13-P